DEPARTMENT OF HOMELAND SECURITY

Coast Guard

33 CFR Parts 100 and 165

[Docket No. USCG-2015-1052]

Special Local Regulations and Safety Zones; Recurring Events Held in the Coast Guard Sector Northern New England Captain of the Port Zone

AGENCY: Coast Guard, DHS.

ACTION: Notice of enforcement of regulations.

SUMMARY: The Coast Guard will enforce the events outlined in Tables 1 and 2 taking place throughout the Sector Northern New England Captain of the Port (COTP) Zone. This action is necessary to protect marine traffic and spectators from the hazards associated with powerboat races, regattas, boat parades, rowing and paddling boat races, swim events, and fireworks displays. During the enforcement period, no person or vessel may transit this regulated area without approval from the Captain of the Port or a designated representative.

DATES: The regulations in 33 CFR 100.120 and 33 CFR 165.171 will be enforced for the Special Local Regulations and Safety Zones identified in the SUPPLEMENTARY INFORMATION section below for the dates and times specified.

FOR FURTHER INFORMATION CONTACT: If you have questions about this notice of enforcement, call or email Chief Chris Bains, Waterways Management Division, U.S. Coast Guard, Sector Northern New England; telephone at 207-347-5003 or email at marineeventsnne@uscg.mil.

SUPPLEMENTARY INFORMATION: The Coast Guard will enforce the special local regulations and safety zones listed in 33 CFR 100.120 and 33 CFR 165.171. These regulations will be enforced for the duration of each event, on or about the dates indicated in TABLES 1 and 2.

Table 1—(33 CFR 100.120)
JUNE
Charlie Begin Memorial Lobster Boat Races | • Event Type: Power Boat Race.
| • Sponsor: Boothbay Harbor Lobster Boat Committee.
| • Date: June 18, 2016.
| • Time: 9:00 a.m. to 2:00 p.m.
| • Location: The regulated area includes all waters of Boothbay Harbor, Maine in the vicinity of John's Island within the following points (NAD 83):
| 43°50′04″ N., 069°38′37″ W.
| 43°50′54″ N., 069°38′06″ W.
| 43°50′49″ N., 069°37′50″ W.
| 43°50′00″ N., 069°38′20″ W.
Rockland Harbor Lobster Boat Races | • Event Type: Power Boat Race.
| • Sponsor: Rockland Harbor Lobster Boat Race Committee.
| • Date: June 19, 2016.
| • Time: 10:00 a.m. to 3:00 p.m.
| • Location: The regulated area includes all waters of Rockland Harbor, Maine in the vicinity of the Rockland Breakwater Light within the following points (NAD 83):
| 44°05′59″ N., 069°04′53″ W.
| 44°06′43″ N., 069°05′25″ W.
| 44°06′50″ N., 069°05′05″ W.
| 44°06′05″ N., 069°04′34″ W.
Windjammer Days Parade of Ships | • Event Type: Tall Ship Parade.
| • Sponsor: Boothbay Region Chamber of Commerce.
| • Date: June 29, 2016.
| • Time: 1:00 p.m. to 3:00 p.m.
| • Location: The regulated area includes all waters of Boothbay Harbor, Maine in the vicinity of Tumbler's Island within the following points (NAD 83):
| 43°51′02″ N., 069°37′33″ W.
| 43°50′47″ N., 069°37′31″ W.
| 43°50′23″ N., 069°37′57″ W.
| 43°50′01″ N., 069°37′45″ W.
| 43°50′01″ N., 069°38′31″ W.
| 43°50′25″ N., 069°38′25″ W.
| 43°50′49″ N., 069°37′45″ W.
Bass Harbor Blessing of the Fleet Lobster Boat Race | • Event Type: Power Boat Race.
| • Sponsor: Tremont Congregational Church.
| • Date: June 26, 2016.
| • Time: 9:00 a.m. to 2:00 p.m.
| • Location: The regulated area includes all waters of Bass Harbor, Maine in the vicinity of Lopaus Point within the following points (NAD 83):
| 44°13′28″ N., 068°21′59″ W.
| 44°13′20″ N., 068°21′40″ W.
| 44°14′05″ N., 068°20′55″ W.
| 44°14′12″ N., 068°21′14″ W.
JULY
The Challenge Race | • Event Type: Rowing and Paddling Boat Race.
| • Sponsor: Lake Champlain Maritime Museum.
| • Date: July 10, 2016.
| • Time: 11:00 a.m. to 1:00 p.m.
| • Location: The regulated area includes all waters of Lake Champlain in the vicinity of Button Bay State Park within the following points (NAD 83):
| 44°12′25″ N., 073°22′32″ W.
| 44°12′00″ N., 073°21′42″ W.
| 44°12′19″ N., 073°21′25″ W.
| 44°13′16″ N., 073°21′36″ W.
The Great Race | • Event Type: Rowing and Paddling Boat Race.
| • Sponsor: Franklin County Chamber of Commerce.
| • Date: July 3, 2016.
| • Time: 10:30 a.m. to 1:00 p.m.
| • Location: The regulated area includes all waters of Lake Champlain in the vicinity of Saint Albans Bay within the following points (NAD 83):
| 44°47′18″ N., 073°10′27″ W.
| 44°47′10″ N., 073°08′51″ W.
Stonington Lobster Boat Races | • Event Type: Power Boat Race.
| • Sponsor: Stonington Lobster Boat Race Committee.
| • Date: July 10, 2016.
| • Time: 9:30 a.m. to 3:30 p.m.
| • Location: The regulated area includes all waters of Stonington, Maine within the following points (NAD 83):
| 44°08′55″ N., 068°40′12″ W.
| 44°09′00″ N., 068°40′15″ W.
| 44°09′11″ N., 068°39′42″ W.
| 44°09′07″ N., 068°39′39″ W.
AUGUST
Tall Ships Visiting Portsmouth | • Event Type: Regatta and Boat Parade.
| • Sponsor: Piscataqua Maritime Commission.
| • Date: August 10, 2016.
| • Time: 6:30 p.m. to 7:30 p.m.
| • Location: The regulated area includes all waters of Portsmouth Harbor, New Hampshire in the vicinity of Castle Island within the following points (NAD 83):
| 43°03′11″ N., 070°42′26″ W.
| 43°03′18″ N., 070°41′51″ W.
| 43°04′42″ N., 070°42′11″ W.
| 43°04′28″ N., 070°44′12″ W.
| 43°05′36″ N., 070°45′56″ W.
| 43°05′29″ N., 070°46′09″ W.
| 43°04′19″ N., 070°44′16″ W.
| 43°04′22″ N, 070°42′33″ W.
Eggemoggin Reach Regatta | • Event Type: Wooden Boat Parade.
| • Sponsor: Rockport Marine, Inc. and Brookline Boat Yard.
| • Date: August 6, 2016.
| • Time: 11:00 a.m. to 7:00 p.m.
| • Location: The regulated area includes all waters of Eggemoggin Reach and Jericho Bay in the vicinity of Naskeag Harbor, Maine within the following points (NAD 83):
| 44°15′16″ N., 068°36′26″ W.
| 44°12′41″ N., 068°29′26″ W.
| 44°07′38″ N., 068°31′30″ W.
| 44°12′54″ N., 068°33′46″ W.
Lake Champlain Dragon Boat Festival | • Event Type: Rowing and Paddling Boat Race.
| • Sponsor: Dragonheart Vermont.
| • Date: July 16, 2016 and July 17, 2016.
| • Time (Approximate): 8:00 a.m. to 6:00 p.m.
| • Date: August 6, 2016 and August 7, 2016.
| • Time (Approximate): 8:00 a.m. to 5:00 p.m.
| • Location: The regulated area includes all waters of Burlington Bay within the following points (NAD 83):
| 44°28′49″ N., 073°13′22″ W.
| 44°28′41″ N., 073°13′36″ W.
| 44°28′28″ N., 073°13′31″ W.
| 44°28′38″ N., 073°13′18″ W.
Winter Harbor Lobster Boat Races | • Event Type: Power Boat Race.
| • Sponsor: Winter Harbor Chamber of Commerce.
| • Date: August 13, 2016.
| • Time: 10:00 a.m. to 2:00 p.m.
| • Location: The regulated area includes all waters of Winter Harbor, Maine within the following points (NAD 83):
| 44°22′06″ N., 068°05′13″ W.
| 44°23′06″ N., 068°05′08″ W.
| 44°23′04″ N., 068°04′37″ W.
| 44°22′05″ N., 068°04′44″ W.
Merritt Brackett Lobster Boat Races | • Event Type: Power Boat Race.
| • Sponsor: Town of Bristol, Maine.
| • Date: August 14, 2016.
| • Time: 10:30 a.m. to 2:00 p.m.
| • Location: The regulated area includes all waters of Pemaquid Harbor, Maine within the following points (NAD 83):
| 43°52′16″ N., 069°32′10″ W.
| 43°52′41″ N., 069°31′43″ W.
| 43°52′35″ N., 069°31′29″ W.
| 43°52′09″ N., 069°31′56″ W.
Long Island Lobster Boat Race | • Event Type: Power Boat Race.
| • Sponsor: Long Island Lobster Boat Race Committee.
| • Date: August 20, 2016.
| • Time (Approximate): 12:00 a.m. to 6:00 p.m.
| • Location: The regulated area includes all waters of Casco Bay, Maine in the vicinity of Great Ledge Cove and Dorseys Cove off the north west coast of Long Island, Maine within the following points (NAD 83):
| 43°41′59″ N., 070°08′59″ W.
| 43°42′04″ N., 070°09′10″ W.
| 43°41′41″ N., 070°09′38″ W.
| 43°41′36″ N., 070°09′30″ W.

Table 2—(33 CFR 165.171)
JUNE
Rotary Waterfront Days Fireworks | • Event Type: Fireworks Display.
| • Sponsor: Gardiner Rotary.
| • Date: June 18, 2016.
| • Time: 8:45 p.m. to 9:30 p.m.
| • Location: In the vicinity of the Gardiner Waterfront, Gardiner, Maine in approximate position:
| 44°13′52″ N., 069°46′08″ W. (NAD 83).
Windjammer Days Fireworks | • Event Type: Fireworks Display.
| • Sponsor: Boothbay Harbor Region Chamber of Commerce.
| • Date: June 22, 2016.
| • Rain date: July 4, 2016.
| • Time: 8:30 p.m. to 9:00 p.m.
| • Location: In the vicinity of McFarland Island, Boothbay Harbor, Maine in approximate position:
| 43°50′38″ N., 069°37′57″ W. (NAD 83).
JULY
Burlington Independence Day Fireworks | • Event Type: Fireworks Display.
| • Sponsor: City of Burlington, Vermont.
| • Date: July 3, 2016.
| • Time: 9:35 p.m. to 11:30 p.m.
| • Location: From a barge in the vicinity of Burlington Harbor, Burlington, Vermont in approximate position:
| 44°28′31″ N., 073°13′31″ W. (NAD 83).
Colchester Triathlon | • Event Type: Swim Event.
| • Sponsor: Colchester Parks and Recreation Department.
| • Date: July 18, 2016.
| • Time: 8:30 a.m. to 9:30 a.m.
| • Location: The regulated area includes all waters of Malletts Bay on Lake Champlain, Vermont within the following points (NAD 83):
| 44°32′18″ N., 073°12′35″ W.
| 44°32′28″ N., 073°12′56″ W.
| 44°32′57″ N., 073°12′38″ W.
Bar Harbor 4th of July Fireworks | • Event Type: Fireworks Display.
| • Sponsor: Bar Harbor Chamber of Commerce.
| • Date: July 4, 2016.
| • Rain date: July 5, 2016.
| • Time: 8:00 p.m. to 10:00 p.m.
| • Location: In the vicinity of Bar Harbor Town Pier, Bar Harbor, Maine in approximate position:
| 44°23′31″ N., 068°12′15″ W. (NAD 83).
Boothbay Harbor 4th of July Fireworks | • Event Type: Fireworks Display.
| • Sponsor: Town of Boothbay Harbor.
| • Date: July 4, 2016.
| • Rain date: July 5, 2016.
| • Time: 8:30 p.m. to 9:00 p.m.
| • Location: In the vicinity of McFarland Island, Boothbay Harbor, Maine in approximate position:
| 43°50′38″ N., 069°37′57″ W. (NAD 83).
Eastport 4th of July Fireworks | • Event Type: Fireworks Display.
| • Sponsor: Eastport 4th of July Committee.
| • Date: July 4, 2016.
| • Rain date: July 5, 2016.
| • Time: 9:00 p.m. to 10:30 p.m.
| • Location: From the Waterfront Public Pier in Eastport, Maine in approximate position:
| 44°54′25″ N., 066°58′55″ W. (NAD 83).
Ellis Short Sand Park Trustee Fireworks | • Event Type: Fireworks Display.
| • Sponsor: William Burnham.
| • Date: July 4, 2016.
| • Rain date: July 5, 2016.
| • Time: 9:00 p.m. to 10:30 p.m.
| • Location: In the vicinity of York Beach, Maine in approximate position:
| 43°10′27″ N., 070°36′26″ W. (NAD 83).
Jonesport 4th of July Fireworks | • Event Type: Fireworks Display.
| • Sponsor: Jonesport 4th of July Committee.
| • Date: July 2, 2016.
| • Rain date: July 3, 2016.
| • Time: 8:45 p.m. to 9:30 p.m.
| • Location: In the vicinity of Beals Island, Jonesport, Maine in approximate position:
| 44°31′18″ N., 067°36′43″ W. (NAD 83).
Portland Harbor 4th of July Fireworks | • Event Type: Fireworks Display.
| • Sponsor: Department of Parks and Recreation, Portland, Maine.
| • Date: July 4, 2016.
| • Rain date: July 5, 2016.
| • Time: 9:30 p.m. to 10:00 p.m.
| • Location: In the vicinity of East End Beach, Portland, Maine in approximate position:
| 43°40′16″ N., 070°14′44″ W. (NAD 83).
St. Albans Day Fireworks | • Event Type: Fireworks Display.
| • Sponsor: St. Albans Area Chamber of Commerce.
| • Date: July 2, 2016.
| • Time: 9:30 p.m. to 11:30 p.m.
| • Location: From the St. Albans Bay dock in St. Albans Bay, Vermont in approximate position:
| 44°48′25″ N., 073°08′23″ W. (NAD 83).
Lubec Bicentennial Fireworks | • Event Type: Fireworks Display.
| • Sponsor: Town of Lubec, Maine.
| • Date: July 3, 2016.
| • Rain date: July 5, 2016.
| • Time: 9:00 p.m. to 10:30 p.m.
| • Location: In the vicinity of the Lubec Public Boat Launch in approximate position:
| 44°51′52″ N., 066°59′06″ W. (NAD 83).
Vinalhaven 4th of July Fireworks | • Event Type: Fireworks Display.
| • Sponsor: Vinalhaven 4th of July Committee.
| • Date: July 2, 2016
| • Rain date: July 3, 2016.
| • Time: 9:00 p.m. to 10:30 p.m.
| • Location: In the vicinity of Grime′s Park, Vinalhaven, Maine in approximate position:
| 44°02′34″ N., 068°50′26″ W. (NAD 83).
Main Street Heritage Days 4th of July Fireworks | • Event Type: Fireworks Display.
| • Sponsor: Main Street Bath Inc.
| • Date: July 4, 2016.
| • Rain date: July 5, 2016.
| • Time: 9:00 p.m. to 10:30 p.m.
| • Location: In the vicinity of Reed and Reed Boat Yard, Woolwich, Maine in approximate position:
| 43°54′56″ N., 069°48′16″ W. (NAD 83).
Peaks to Portland Swim | • Event Type: Swim Event.
| • Sponsor: Cumberland County YMCA.
| • Date: July 23, 2016.
| • Time: 9:00 a.m. to 12:00 p.m.
| • Location: The regulated area includes all waters of Portland Harbor between Peaks Island and East End Beach in Portland, Maine within the following points (NAD 83):
| 43°39′20″ N., 070°11′58″ W.
| 43°39′45″ N., 070°13′19″ W.
| 43°40′11″ N., 070°14′13″ W.
| 43°40′08″ N., 070°14′29″ W.
| 43°40′00″ N., 070°14′23″ W.
| 43°39′34″ N., 070°13′31″ W.
| 43°39′13″ N., 070°11′59″ W.
Richmond Days Fireworks | • Event Type: Fireworks Display.
| • Sponsor: Town of Richmond, Maine.
| • Date: July 23, 2016.
| • Rain date: July 24, 2016.
| • Time: 9:00 p.m. to 10:30 p.m.
| • Location: From a barge in the vicinity of the inner harbor, Tenants Harbor, Maine in approximate position:
| 44°08′42″ N., 068°27′06″ W. (NAD83).
Tri for a Cure Swim Clinics and Triathlon | • Event Type: Swim Event.
| • Sponsor: Maine Cancer Foundation.
| • Dates & Times:
| June 25, 2016 1:00 p.m. to 3:00 p.m.
| June 29, 2016 5:30 p.m. to 7:30 p.m.
| July 9, 2016 2:00 p.m. to 4:00 p.m.
| July 13, 2016 5:30 p.m. to 7:30 p.m.
| July 17, 2016 7:00 a.m. to 10:00 a.m.
| • Location: The regulated area includes all waters of Portland Harbor, Maine in the vicinity of Spring Point Light within the following points (NAD 83):
| 43°39′01″ N., 070°13′32″ W.
| 43°39′07″ N., 070°13′29″ W.
| 43°39′06″ N., 070°13′41″ W.
| 43°39′01″ N., 070°13′36″ W.
August
York Beach Fire Department Fireworks | • Event Type: Fireworks Display.
| • Sponsor: York Beach Fire Department.
| • Date: August 7, 2016.
| • Rain date: August 14, 2016.
| • Time (Approximate):
| 9:00 p.m. to 10:30 p.m.
| • Location: In the vicinity of Short Sand Cove in York, Maine in approximate position:
| 43°10′27″ N., 070°36′25″ W. (NAD 83).
SEPTEMBER
The Lobsterman Triathlon | • Event Type: Swim Event.
| • Sponsor: Tri-Maine Productions.
| • Date: September 17, 2016.
| • Time (Approximate):
| 8:00 a.m. to 10:00 a.m.
| • Location: The regulated area includes all waters in the vicinity of Winslow Park in South Freeport, Maine within the following points (NAD 83):
| 43°47′59″ N., 070°06′56″ W.
| 43°47′44″ N., 070°06′56″ W.
| 43°47′44″ N., 070°07′27″ W.
| 43°47′57″ N., 070°07′27″ W.

The Coast Guard may patrol each event area under the direction of a designated Coast Guard Patrol Commander (PATCOM). The PATCOM may be contacted on Channel 16 VHF-FM (156.8 MHz) by the call sign “PATCOM.” Official patrol vessels may consist of any Coast Guard, Coast Guard Auxiliary, state, or local law enforcement vessels assigned or approved by the COTP, Sector Northern New England. For information about regulations and restrictions for waterway use during the effective periods of these events, please refer to 33 CFR 100.120 and 33 CFR 165.171.

This notice of enforcement is issued under authority of 33 CFR 100.120, 33 CFR 165.171, and 5 U.S.C. 552 (a). In addition to this notice of enforcement in the Federal Register, the Coast Guard will provide the maritime community with advance notification of this enforcement period via the Local Notice to Mariners and marine information broadcasts. If the COTP determines that the regulated area need not be enforced for the full duration stated in this notice, he or she may use a Broadcast Notice to Mariners to grant general permission to enter the regulated area.

Dated: May 27, 2016.
M. A. Baroody,
Captain, U.S. Coast Guard, Captain of the Port Sector Northern New England.

[FR Doc. 2016-15701 Filed 6-30-16; 8:45 am]

BILLING CODE 9110-04-P